DEPARTMENT OF STATE

22 CFR Part 127

[Public Notice 10273]

RIN 1400-AE50

Department of State 2018 Civil Monetary Penalties Inflationary Adjustment; Correction

AGENCY: Department of State.

ACTION: Final rule; correcting amendment.

SUMMARY: The Department of State published a final rule in the Federal Register on January 3, 2018, providing revised civil monetary penalties for 2018. This document corrects one of the civil monetary penalties.

DATES: This rule is effective on January 19, 2018.

FOR FURTHER INFORMATION CONTACT: Alice Kottmyer, Office of the Legal Adviser, 202-647-2318.

SUPPLEMENTARY INFORMATION:

Need for Correction

In FR Doc 2017-28395, in the Federal Register of January 3, 2018 (83 FR 234), on page 237, in the first column, amendatory instruction 6b, for § 127.10(a)(1)(ii) revised the penalty to read “$808,458”, but it should have read “$824,959, or five times the amount of the prohibited incentive payment, whichever is greater”.

Accordingly, this document corrects the civil monetary penalty listed in 22 CFR 127.10(a)(1)(ii).

List of Subjects in 22 CFR Part 127

Arms and munitions, Exports.

For the reasons set forth above, 22 CFR part 127 is corrected by making the following correcting amendment:

PART 127—VIOLATIONS AND PENALTIES

1. The authority citation for part 127 continues to read as follows:

Authority: Sections 2, 38, and 42, Pub. L. 90-629, 90 Stat. 744 (22 U.S.C. 2752, 2778, 2791); 22 U.S.C. 401; 22 U.S.C. 2651a; 22 U.S.C. 2779a; 22 U.S.C. 2780; E.O. 13637, 78 FR 16129; Pub. L. 114-74, 129 Stat. 584.

§ 127.10 [Amended]

2. Section 127.10(a)(1)(ii) is amended by removing “$824,959” and adding in its place “$824,959, or five times the amount of the prohibited incentive payment, whichever is greater”.

Alice M. Kottmyer,
Attorney-Adviser, Office of Management, Department of State.

[FR Doc. 2018-00881 Filed 1-18-18; 8:45 am]

BILLING CODE 4710-10-P